LIBRARY OF CONGRESS

Copyright Royalty Board

[Docket No. 14-CRB-0010-CD (2013); Docket No. 14-CRB-0011-SD (2013)]

In re Distribution of Cable Royalty Funds; In re Distribution of Satellite Royalty Funds

AGENCY: Copyright Royalty Board, Library of Congress.

ACTION: Notice announcing commencement of distribution proceedings with request for Petitions to Participate.

SUMMARY: The Copyright Royalty Board announces the commencement of proceedings to determine distribution of 2013 royalties deposited with the Copyright Office under the cable service statutory license and the satellite carrier statutory license. The Judges also set the date by which all parties wishing to participate and share in the distribution of cable or satellite retransmission royalties for 2013 must file a Petition to Participate and pay the accompanying $150 filing fee. The Judges seek a single Petition to Participate at any stage of the cable royalty proceeding and a separate Petition to Participate at any stage of the satellite royalty proceeding.

DATES: Petitions to Participate and the filing fee are due on or before July 6, 2015.

ADDRESSES: This notice and request is also posted on the agency's Web site (www.loc.gov/crb) and on Regulations.gov (www.regulations.gov). Parties who plan to participate should see “How to Submit Petitions to Participate” in the SUPPLEMENTARY INFORMATION section below for physical addresses and further instructions.

FOR FURTHER INFORMATION CONTACT: Kimberly N. Whittle, CRB Attorney Advisor, or LaKeshia Keys, CRB Program Specialist, by telephone at (202) 707-7658 or by email at crb@loc.gov.

SUPPLEMENTARY INFORMATION:

Background

Twice each year, cable services and satellite carriers deposit with the Copyright Office royalties payable for the license to transmit over-the-air television and radio broadcast signals via cable and satellite. 17 U.S.C. 111, 119. The Copyright Royalty Judges (Judges) oversee distribution of the royalties to copyright owners whose works are included in the retransmissions and who have filed a timely claim for royalties. Pursuant to 17 U.S.C. 803(b)(1), the Judges hereby give notice of the commencement of proceedings for distribution of cable and satellite royalties deposited for broadcasts retransmitted in 2013 and call for interested parties to file Petitions to Participate.

Any party wishing to receive royalties payable for 2013 must file a Petition to Participate for the applicable proceeding no later than July 6, 2015. The Judges will resolve all issues relating to distribution of cable and satellite royalty funds for 2013 in these proceedings, Docket No. 14-CRB-0010-CD (2013) and Docket No. 14-CRB-0011-SD (2013). See 37 CFR 351.1(b)(2).

Commencement of Distribution Proceedings

The Judges have determined that controversies exist with regard to distribution of the cable and satellite retransmission royalties that licensees deposited for 2013. Therefore, pursuant to Section 804(b)(8) of the Copyright Act, the Judges are causing this notice to be published in the Federal Register to announce the commencement of cable and satellite distribution proceedings for the 2013 funds.

The Judges base their conclusion regarding 2013 controversies upon information provided by certain interested parties in response to the Judges' published Notice Requesting Comments. See 79 FR 76396 (December 22, 2014). The Judges received comments from nine parties.¹ All respondents acknowledged the existence of controversies regarding distribution of the 2013 royalty funds; ² most respondents asserted optimism that they would resolve those controversies through negotiation; the commencement of these proceedings does not foreclose continued negotiations.³

¹ American Society of Composers, Authors and Publishers, Broadcast Music, Inc. (ASCAP) and SEASAC, styling themselves “Music Claimants”; the Canadian Broadcasting Corporation on behalf of Canadian television stations and copyright owners of programs broadcast on Canadian television stations, with limited exceptions, referring to themselves as the “Canadian Claimants Group”; Amazing Facts, Inc., American Religious Town Hall Meeting, Inc., Billy Graham Evangelistic Association, The Christian Broadcasting Network, Inc., Christian Television Corporation and affiliated television stations, Coral Ridge Ministries Media, Inc., Crenshaw Christian Center, Crystal Cathedral Ministries, In Touch Ministries, Joyce Meyer Ministries, Kerry Shook Ministries aka Fellowship of the Woodlands, Lakewood Church aka Joel Osteen ministries, Living Church of God (International), Inc., Living Word Christian Center, Messianic Vision, Inc., Philadelphia Church of God, Inc., Word of God Fellowship, Inc. dba Daystar Television Network, together calling themselves the “Devotional Claimants”; The Office of the Commissioner of Baseball, National Basketball Association, National Football League, National Collegiate Athletic Association, National Hockey League, Women's National Basketball Association, together styling themselves the “Joint Sports Claimants”; National Association of Broadcasters claiming to represent “Commercial Television Claimants”; Motion Picture Association of America, Inc. on behalf of syndicated series, non-team sports, movies, and specials, together claiming as “Program Suppliers”; Public Broadcasting Service (PBS) on behalf of copyright owners of retransmitted programs aired originally on U.S. noncommercial educational television stations; National Public Radio, Inc. (NPR) for itself and participating NPR Member station licensees; and a representative of commercial television calling itself the “Broadcaster Claimants Group.”

² One of the representative parties asserts no claim to 2013 cable royalty funds: The Broadcaster Claimants Group. Four of the representative parties assert no claim to 2013 satellite royalty funds: Music Claimants, Commercial Television Claimants, PBS, and NPR.

³ On May 28, 2015, the Judges granted motions for partial distribution of 2013 satellite and 2013 cable royalties. Order Granting Motion of Phase I Claimants for Partial Distribution of 2013 Satellite Royalty Funds, Docket No. 14-CRB-0011 SD (2013) and Order Granting Motion of Phase I Claimants for Partial Distribution, Docket No. 14-CRB-0010 CD (2013).

When submitting comments regarding the existence of controversies, some claimants identified themselves as seeking royalties for a certain category of programs. The Judges recognize that other claimants might not be affiliated with or be represented by joint counsel for the self-styled groups of claimants that have expressed an interest in this proceeding. The Judges, therefore, provide this public notice to alert any entity who claims an interest in cable or satellite retransmission royalties deposited for royalty year 2013.

In order to share in the royalties at issue, any claimant, whether or not affiliated with one of the groups identified in footnote 1 above, must file a Petition to Participate in each proceeding in which it seeks royalties, individually or jointly with other claimants. If, at a later point in the proceedings, a claimant chooses to join a group participating through joint counsel, that claimant may withdraw its individual Petition to Participate by giving written notice in the proceeding identifying the group with which it wishes to affiliate. The prerequisites to participation in a distribution proceeding are (1) the filing (individually or jointly) of a valid claim for the royalty year at issue (2013) and (2) the filing (individually or jointly) of a valid Petition to Participate.

Only attorneys who are members in good standing of the bar of one or more states may represent parties before the Judges. All corporate parties must appear through counsel. Only if the petitioning party is an individual, may he or she represent himself or herself without legal counsel. 37 CFR 350.2.

The Judges have assigned separate docket numbers to the cable and satellite distribution proceedings for 2013. Participants are required, therefore, to file separate Petitions to Participate with respect to each fund.

Petitions To Participate

Parties filing Petitions to Participate must comply with the requirements of Section 351.1(b) of the CRB's regulations. In addition, each Petition to Participate must set forth the name of each claimant, the corresponding claim number, and an indication of whether the claim is an individual or joint claim. Petitioners are responsible for making a sufficient showing of a “significant interest” in the royalty funds at issue. See 17 U.S.C. 803(b)(2).

Claimants whose claims do not exceed $1,000 in value and who include a statement in their Petitions to Participate that they will not seek distribution of more than $1,000 may file the Petition to Participate without payment of the filing fee. The CRB will reject any Petition to Participate that is not accompanied by either the statement of limitation described in the preceding sentence or the $150 filing fee. The CRB will not accept cash payment. Parties must pay the filing fee with a check or money order payable to the “Copyright Royalty Board.” The CRB may reject any Petition to Participate that is accompanied by a check returned for lack of sufficient funds.

How To Submit Petitions To Participate

Any party wishing to participate and share in the distribution of cable or satellite royalty funds for 2013 shall submit to the Copyright Royalty Board the filing fee (US $150), if required, an original Petition to Participate, five paper copies, and an electronic copy in Portable Document Format (PDF) that contains searchable, accessible text (not an image) on a CD or other portable memory device to only one of the following addresses.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Participants should conform filed electronic documents to the Judges' Guidelines for Electronic Documents, available online at www.loc.gov/crb/docs/Guidelinesfor_Electronic_Documents.pdf.

Dated: June 1, 2015.
Suzanne M. Barnett,
Chief Copyright Royalty Judge.

[FR Doc. 2015-13784 Filed 6-4-15; 8:45 am]

BILLING CODE 1410-72-P